DEPARTMENT OF ENERGY

Federal Energy Regulatory Commission

[Project No. 2426-239]

California Department of Water Resources, Los Angeles Department of Water and Power; Notice of Availability of Environmental Assessment

The final EA contains Commission staff's analysis of the potential environmental effects of the proposed variance, alternatives to the proposed action, and concludes that the proposed variance with appropriate environmental protective measures, would not constitute a major federal action that would significantly affect the quality of the human environment.

The final EA may be viewed on the Commission's website at http://www.ferc.gov using the “elibrary” link. Enter the docket number (P-2426) in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

For public inquiries and assistance with making filings such as interventions, comments, or requests for rehearing, contact the Office of Public Participation at (202) 502-6595 or OPP@ferc.gov.

For further information, contact Jason Krebill at 202-502-8268 or jason.krebill@ferc.gov.

(Authority: 18 CFR 2.1)

Dated: December 9, 2025.
Debbie-Anne A. Reese,
Secretary.

[FR Doc. 2025-22731 Filed 12-12-25; 8:45 am]

BILLING CODE 6717-01-P